DEPARTMENT OF TRANSPORTATION

Federal Railroad Administration

[Docket No.'s FRA-2000-6923 and FRA-2000-6924]

Notice of Public Hearing; CSX Transportation, Incorporated

CSX Transportation, Incorporated has petitioned the Federal Railroad Administration (FRA) seeking approval of the proposed discontinuance and removal of the manual block systems (DCS Operating Rules), on the single secondary track, between Weir, milepost 13.3 and Dock, milepost 28.2, near New Bedford, Massachusetts, New Bedford Subdivision, and on the single secondary track, between Swamp, milepost 0.0 and Wharf, milepost 12.0, near Fall River, Massachusetts, Fall River Subdivision, Albany Service Lane, and re-designation of the secondary tracks to industrial tracks.

These proceedings are identified as FRA block signal applications, Docket numbers FRA-2000-6923 and FRA-2000-6924 respectively.

FRA has issued a public notice seeking comments of interested parties and has conducted a field investigation in this matter. After examining the carrier's proposal and the available facts, FRA has determined that a public hearing is necessary before a final decision is made on this proposal.

Accordingly, a public hearing is hereby set for 9 a.m. on Tuesday, February 6, 2001, in the John A. Volpe National Transportation Systems Center, Room 1228, located at 55 Broadway, Cambridge, Massachusetts 02142. Interested parties are invited to present oral statements at the hearing.

The hearing will be an informal one and will be conducted in accordance with Rule 25 of the FRA Rules of Practice (49 CFR 211.25), by a representative designated by the FRA. The hearing will be a non-adversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC on January 5, 2001.
Grady C. Cothen, Jr.,
Deputy Associate Administrator for Safety Standards and Program Development.

[FR Doc. 01-1097 Filed 1-11-01; 8:45 am]

BILLING CODE 4910-06-P